INTERNATIONAL TRADE COMMISSION

[USITC SE-16-035]

Government in the Sunshine Act Meeting Notice

AGENCY HOLDING THE MEETING: United States International Trade Commission.

TIME AND DATE: November 3, 2016 at 2:00 p.m.

PLACE: Room 101, 500 E Street SW., Washington, DC 20436, Telephone: (202) 205-2000.

STATUS: Open to the public.

MATTERS TO BE CONSIDERED:

1. Agendas for future meetings: None.

2. Minutes.

3. Ratification List.

4. Vote in Inv. Nos. 701-TA-564 and 731-TA-1338-1340 (Preliminary) (Steel Concrete Reinforcing Bar (rebar) from Japan, Taiwan, and Turkey). The Commission is currently scheduled to complete and file its determinations on November 4, 2016; views of the Commission are currently scheduled to be completed and filed on November 14, 2016.

5. Outstanding action jackets: None.

In accordance with Commission policy, subject matter listed above, not disposed of at the scheduled meeting, may be carried over to the agenda of the following meeting. Earlier notification of this meeting was not possible.

By order of the Commission:
Dated: Issued: October 28, 2016.
William R. Bishop,
Supervisory Hearings and Information Officer.

[FR Doc. 2016-26465 Filed 10-28-16; 4:15 pm]

BILLING CODE 7020-02-P